COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List products and services to be furnished by nonprofit agencies employing persons who are blind or have other severe disabilities, and deletes from the Procurement List products previously furnished by such agencies.

DATES: Effective Date: April 8, 2007.

ADDRESSES: Committee for Purchase From People Who Are Blind or Severely Disabled, Jefferson Plaza 2, Suite 10800, 1421 Jefferson Davis Highway, Arlington, VA 22202-3259.

FOR FURTHER INFORMATION OR TO SUBMIT COMMENTS CONTACT: Kimberly M. Zeich, Telephone: (703) 603-7740, Fax: (703) 603-0655, or e-mail CMTEFedReg@jwod.gov.

SUPPLEMENTARY INFORMATION:

Additions

On January 12, 2007, the Committee for Purchase From People Who Are Blind or Severely Disabled published notice (72 FR 1490, 1491) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Hydramax Hydration System:

NSN: 8465-00-NIB-0080—Replacement Reservoir, Alpha and Mustang;

NSN: 8465-00-NIB-0139—Mustang, Black;

NSN: 8465-00-NIB-0151—Mustang, Universal Camouflage;

NSN: 8465-00-NIB-0152—Mustang, Desert Camouflage;

NSN: 8465-00-NIB-0154—Alpha, High Visibility Orange;

NSN: 8465-00-NIB-0155—Alpha, Universal Camouflage.

Coverage: B-list—for (Broad Government Requirement) as aggregated by the General Services Administration.

NPA: The Lighthouse for the Blind, Inc. (Seattle Lighthouse), Seattle, WA.

Contracting Activity: GSA, Southwest Supply Center, Fort Worth, TX.

Spices, Dry, Group II:

NSN: 8950-01-E60-9152—Ground Ginger;

NSN: 8950-01-E60-9155—Cayenne Pepper;

NSN: 8950-01-E61-0099—Taco Mix Seasoning;

NSN: 8950-01-E61-0100—Taco Mix Seasoning (Group II);

NSN: 8950-01-E61-0101—Taco Mix Seasoning (Group II);

NSN: 8950-01-E61-0102—Taco Mix Seasoning (Group II);

NSN: 8950-01-E61-0103—Cayenne Pepper;

NSN: 8950-01-E61-0104—Ginger Ground;

NSN: 8950-01-E61-0105—Ginger Ground;

NSN: 8950-01-E61-0106—Cayenne Pepper;

NSN: 8950-01-E61-0107—Cayenne Pepper;

NSN: 8950-01-E61-0108—Red Pepper.

Coverage: C-List for the requirements of Defense Supply Center Philadelphia (DSCP).

NPA: Continuing Developmental Services, Inc., Fairport, NY.

Contracting Activity: Defense Supply Center Philadelphia, Philadelphia, PA.

Services

Service Type/Location: Administrative Services, Calexico Border Station, Port of Entry, Calexico, CA.

NPA: ARC-Imperial Valley, El Centro, CA.

Contracting Activity: Department of Homeland Security, Customs and Border Protection, Washington, DC.

Service Type/Location: Custodial Services, Federal Building, 555 Independence, Cape Girardeau, MO.

NPA: Cape Girardeau Community Sheltered Workshop, Inc., Cape Girardeau, MO.

Contracting Activity: GSA, PBS—Region 6, Kansas City, MO.

Service Type/Location: Custodial Services, Kastenmeir U.S. Courthouse, (120 North Henry Street), Madison, WI.

NPA: Madison Area Rehabilitation Centers, Inc., Madison, WI.

Contracting Activity: GSA, Public Buildings Service, Region 5, Chicago, IL.

Service Type/Location: Custodial Services, U.S. DOI—Bureau of Land Mgmt., (Eight Recreation Areas/Campgrounds), Bessemer Bend Rec Site, Golden Eye Rec Site, Government Bridge Site, Lodgepole Campground, Muddy Mountain Educational Kiosk, Poison Spider OHV Rec Site, Rim Campground, Trappers Route #1 Rec Site, Casper, WY.

NPA: Northwest Community Action Programs of Wyoming, Inc., Casper, WY.

Contracting Activity: U.S. DOI—Bureau of Land Mgmt., Denver, CO.

Deletions

On January 12, 2007, the Committee for Purchase From People Who Are Blind or Severely Disabled published notice (72 FR1491) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Holder, Card Label:

NSN: 9905-00-045-3624—Holder, Card Label;

NSN: 9905-00-045-3626—Holder, Card Label;

NSN: 9905-00-782-3768—Holder, Card Label.

NPA: Unknown.

Contracting Activity: GSA, Southwest Supply Center, Fort Worth, TX.

Sheryl D. Kennerly,
Director, Information Management.

[FR Doc. E7-4255 Filed 3-8-07; 8:45 am]

BILLING CODE 6353-01-P